DEPARTMENT OF LABOR

Employment and Training Administration

[TA-W-80,485]

R.R. Donnelley, Inc., Bloomsburg, PA; Notice of Negative Determination on Reconsideration

On March 1, 2012, the Department of Labor issued an Affirmative Determination Regarding Application for Reconsideration for workers and former workers of R.R. Donnelley, Inc., Bloomsburg, Pennsylvania (subject firm). The Department's Notice of affirmative determination was published in the Federal Register on February 21, 2012 (77 FR 9972). The workers are engaged in employment related to the production of hard and soft cover books.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the findings that the subject firm did not import hard and soft cover books, or articles like or directly competitive, during the relevant time period. A survey conducted on the subject firm's major customer revealed no imports of hard and soft cover books, or articles like or directly competitive.

In the request for reconsideration, the petitioners claimed that worker separations at the subject firm were attributable to the subject firm's international operations and increased import competition of hard and soft cover books, as well as electronic books (e-books).

During the reconsideration investigation, the Department reviewed and confirmed information provided during the initial investigation and collected additional information from the subject firm and the surveyed customer.

The reconsideration investigation findings revealed that the subject firm has not shifted the production of hard and soft cover books to a foreign country and does not import hard and soft cover books, or like or directly competitive articles. The reconsideration investigation was extended to consider the trade impact from a shift of production or imports of e-books. The information revealed that the production of e-books by the subject firm takes place domestically. Additionally, subject firm's customer stated that it does not import e-books.

Based on a careful review of information obtained during the initial investigation and the reconsideration investigation, the Department determines that 29 CFR 90.18(c) has not been met.

Conclusion

After reconsideration, I affirm the original notice of negative determination of eligibility to apply for worker adjustment assistance for workers and former workers of R.R. Donnelley, Inc., Bloomsburg, Pennsylvania. Accordingly, the application is denied.

Signed in Washington, DC, on this 27th day of April 2012.
Del Min Amy Chen,
Certifying Officer, Office of Trade Adjustment Assistance.

[FR Doc. 2012-11055 Filed 5-7-12; 8:45 am]

BILLING CODE 4510-FN-P